FEDERAL DEPOSIT INSURANCE CORPORATION

12 CFR Part 345

RIN 3064-AC50

Community Reinvestment

AGENCY: Federal Deposit Insurance Corporation.

ACTION: Proposed rule; extension of comment period.

SUMMARY: On August 20, 2004, the Federal Deposit Insurance Corporation (FDIC), requested public comment on proposed revisions to 12 CFR part 345 implementing the Community Reinvestment Act (CRA) (69 FR 51611, August 20, 2004). The FDIC is extending the comment period on the proposal until October 20, 2004. This action will allow interested persons additional time to analyze the issues and prepare their comments.

DATES: Comments must be received on or before October 20, 2004.

ADDRESSES: You may submit comments, identified by RIN number 3064-AC50 by any of the following methods:

• Agency Web site: http://www.FDIC.gov/regulations/laws/federal/propose.html.

• Mail: Robert E. Feldman, Executive Secretary, Attention: Comments/Legal ESS, Federal Deposit Insurance Corporation, 550 17th Street, NW., Washington, DC 20429.

• Hand Delivered/Courier: The guard station at the rear of the 550 17th Street Building (located on F Street), on business days between 7 a.m. and 5 p.m.

• E-mail: comments@FDIC.gov. Include RIN number 3064-AC50 in the subject line of the message.

• Public Inspection: Comments may be inspected and photocopied in the FDIC Public Information Center, Room 100, 801 17th Street, NW., Washington, DC, between 9 a.m. and 4:30 p.m. on business days.

Instructions: Submissions received must include the agency name and RIN for this rulemaking. Comments received will be posted without change to http://www.FDIC.gov/regulations/laws/federal/propose.html, including any personal information provided.

FOR FURTHER INFORMATION CONTACT: Richard M. Schwartz, Counsel, Legal Division, (202) 898-7424; or Susan van den Toorn, Counsel, Legal Division, (202) 898-8707; Robert W. Mooney, Chief, CRA and Fair Lending Policy Section, Division of Supervision and Consumer Protection; Deirdre Ann Foley, Senior Policy Analyst, Division of Supervision and Consumer Protection, (202) 898-6612; or Pamela Freeman, Policy Analyst, Division of Supervision and Consumer Protection, (202) 898-6568,Federal Deposit Insurance Corporation, 550 17th Street, NW., Washington, DC 20429.

SUPPLEMENTARY INFORMATION: On August 20, 2004, the FDIC requested comment on revisions to 12 CFR 345 implementing the CRA that would (a) change the definition of “small bank” to raise the asset size threshold to $1 billion regardless of holding company affiliation; (b) add a community development activity criterion to the streamlined evaluation method for small banks with assets greater than $250 million and up to $1 billion; and (c) expand the definition of “community development” to encompass a broader range of activities in rural areas. In addition, the FDIC also sought comments on other options.

The proposal was published for a 30-day comment period, which was scheduled to close on September 20, 2004. In order to ensure that as many interested parties as possible have time to comment on the proposal, the comment period is being extended to October 20, 2004.

You should submit your comments on the proposal on or before October 20, 2004.

By order of the Board of Directors.
Dated at Washington, DC, this 16th day of September, 2004.
Federal Deposit Insurance Corporation.
Valerie J. Best,
Assistant Executive Secretary.

[FR Doc. 04-21162 Filed 9-16-04; 12:12 pm]

BILLING CODE 6714-01-P